DEPARTMENT OF AGRICULTURE

Forest Service

Clearwater National Forest; ID; Selway Bitterroot Wilderness Invasive Plants Management Project

AGENCY: Forest Service, USDA.

ACTION: Notice of intent to prepare an environmental impact statement.

SUMMARY: The project proposes to contain and control the spread of non-native invasive plant species within the Selway Bitterroot Wilderness and non-Wilderness lands forming the margins of the Wilderness. Chemical and biological treatments are proposed along with other site-specific methods such as hand pulling and grubbing. All treatments would be ground-based.

DATES: Comments concerning this analysis must be received by December 1, 2006. The draft environmental impact statement is expected in October, 2007 and the final environmental impact statement is expected April, 2008.

ADDRESSES: Written comments concerning this notice or a request to be placed on the project mailing list should be addressed to: Chad Benson (cbenson@fs.fed.us), district Ranger, Powell Ranger Station, Lolo, MT 59847. Electronic comments may be submitted to: comments-northern-clearwater@fs.fed.us. If you choose to comment by e-mail, please include your name and regular mailing address with your comment. The subject line must contain the name of the project for which you are submitting comments (i.e. SBW invasive Plants Project). Acceptable formats are MS Word, WordPerfect, or RTF.

All comments, including names and address when provided, are placed in the record and are available for public inspection and copying. The public may inspect comments received at the Powell Ranger District Office.

FOR FURTHER INFORMATION CONTACT: Chad Benson, District Ranger, Powell Ranger District. Phone: (208) 942-0307. Additional information is also available on the Forest Web site at http://www.fs.fed.us/r1/clearwater/Projects.

SUPPLEMENTARY INFORMATION:

Project Area

The project area consists of the entire Selway Bitterroot Wilderness (1,348,000 acres) as well as key areas adjacent to the wilderness on the Nez Perce, Clearwater, Bitterroot, and Lolo National Forests in western Montana and north central Idaho. Non-wilderness areas involve portions of the road and trail network leading into or passing through the wilderness and other specifically identified priority area. The project area is approximately 1,398,000 acres in size.

Purpose and Need for Action

Non-native invasive plants are a growing problem in the Selway Bitterroot Wilderness and surrounding areas. Without efforts to control these weeds, they will continue to expand into new areas and the number of new weed species will increase. The purpose of this project is to prevent the establishment of new invaders and reduce the impacts of established invasive plants on native plant community stability, sustainability and diversity within the Selway Bitterroot Wilderness.

Inside the Selway Bitterroot Wilderness, approximately 111,000 acres are currently occupied to some degree by spotted knapweek sulfur cinquefoil, St. Johnswort (goatweed) and oxeye daisy. Spotted knapweek accounts for approximately 90 percent of the occupied acres. Newer invaders such as Dalmatian toadflax, musk thistle, and meadow hawkweed occupy very small acreages at the present time. Outside the Wilderness but within the project area, approximately 5,000 acres are occupied by invasive species with the potential to expand into new areas of the Wilderness.

Proposed Action

The National Forests of the Selway Bitterroot Wilderness propose to apply integrated and adaptive approaches to reduce the effects of non-native invasive plant species on natural plant communities and ecosystems within the project area. Approximately 500 to 1500 acres a year are proposed for physical treatments including: chemical treatments, hand pulling, and revegetation with native plants. Biological control organisms would be applied to approximately 10,000 additional acres within the project area. Aerial spray application is not proposed. Grazing of domestic animals to reduce weeds within the Wilderness is not proposed. All treatments and applications would be ground-based. The emphasis of the treatments would be to eradicate new invaders as they are discovered and to contain the spread of established non-native plants.

Possible Alternatives

The Forest Service will consider alternatives to the proposed action including a “no action” alternative in which none of the proposed activities would be implemented. Additional alternatives being considered examine varying levels and locations for the proposed activities to achieve the proposal's purpose and need, as well as respond to issues and other resource concerns.

Responsible Official

The Responsible Official is the Forest Supervisor of the Clearwater National Forest, 12730 Highway 12, Orofino, Idaho 83544. The Responsible Official will decide if the proposed project will be implemented and will document the decision and reasons for the decision in a Record of Decision. That decision will be subject to Forest Service Appeal Regulations. The responsibility for preparing the DEIS and FEIS has been delegated to the District Ranger, Powell Ranger Station, Lolo, MT 59847.

Nature of Decision To Be Made

The decision would specify methods and materials to be used or applied to contain and control unwanted plant species within the project area. The decision would specify the areas to be treated as well as the terms and conditions under which treatment methods and materials would be applied. Administrative actions to monitor effects and effectiveness as well as promote prevention through public awareness and education would also be specified. The anticipated life of the decision would be 10 to 15 years.

Scoping Process

Each of the National Forests managing a portion of the Selway Bitterroot Wilderness maintains a listing of individuals and organizations that have expressed an interest in being informed of and providing input to projects including these types of activities or in this specific location. All of these contacts will be sent the initial scoping document. A legal notice describing the scoping process will be published in the paper of record for each of the National Forests.

Comment Requested

This notice of intent initiates the scoping process which guides the development of the environmental impact statement. Early Notice of Importance of Public Participation in Subsequent Environmental Review: A draft environmental impact statement will be prepared for comment. The comment period on the draft environmental impact statement will be 45 days from the date the Environmental Protection Agency publishes the notice of availability in the Federal Register.

The Forest Service believes, at this early stage it is important to give reviewers notice of several court ruling related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: October 26, 2006.
Thomas K. Reilly,
Forest Supervisor.

[FR Doc. 06-9016 Filed 11-1-06; 8:45 am]

BILLING CODE 3410-11-M